DEPARTMENT OF EDUCATION

Professional Development for Arts Educators Program

AGENCY: Office of Innovation and Improvement, Department of Education.

ACTION: Notice of proposed priority, requirements, and definitions.

SUMMARY: The Assistant Deputy Secretary for Innovation and Improvement proposes a priority, requirements, and definitions under the Professional Development for Arts Educators program. We may use this priority and these requirements and definitions for competitions in fiscal year (FY) 2005 and later years. We take this action to focus Federal financial assistance on an identified national need for professional development for arts educators that focuses on the development, enhancement, and expansion of standards-based arts instruction or that integrates arts instruction with other subject area content, and to improve student achievement of low-income students in kindergarten through grade 12 (K-12). We intend the priority, requirements, and definitions to improve the performance of needy children and to increase the amount of information on effective professional development for arts educators that is available nationally.

DATES: We must receive your comments on or before February 14, 2005.

ADDRESSES: Address all comments about the proposed priority, requirements, and definitions to Carol Sue Fromboluti, U.S. Department of Education, 400 Maryland Avenue, SW., room 4W233, Washington, DC 20202-5943. If you prefer to send your comments through the Internet, use the following address: comments@ed.gov.

You must include the term “artspd” in the subject line of your electronic message.

FOR FURTHER INFORMATION CONTACT: Carol Sue Fromboluti. Telephone: (202) 205-9654 or via Internet: Carol.Fromboluti@ed.gov.

If you use a telecommunications device for the deaf (TDD), you may call the Federal Relay Service (FRS) at 1-800-877-8339.

Individuals with disabilities may obtain this document in an alternative format (e.g., Braille, large print, audiotape, or computer diskette) on request to the contact person listed under FOR FURTHER INFORMATION CONTACT.

SUPPLEMENTARY INFORMATION:

Invitation To Comment

We invite you to submit comments regarding the proposed priority, requirements, and definitions in this notice. To ensure that your comments have maximum effect in developing the notice of final priority, requirements, and definitions, we urge you to identify clearly the specific proposed priority, requirement, or definition that each comment addresses.

We invite you to assist us in complying with the specific requirements of Executive Order 12866 and its overall requirement of reducing regulatory burden that might result from the proposed priority, requirements, and definitions. Please let us know of any further opportunities we should take to reduce potential costs or increase potential benefits while preserving the effective and efficient administration of the program.

During and after the comment period, you may inspect all public comments about the proposed priority, requirements, and definitions in room 4W242, 400 Maryland Avenue, SW., Washington, DC, between the hours of 8:30 a.m. and 4 p.m., eastern time, Monday through Friday of each week except Federal holidays.

Assistance to Individuals With Disabilities in Reviewing the Rulemaking Record

On request, we will supply an appropriate aid, such as a reader or print magnifier, to an individual with a disability who needs assistance to review the comments or other documents in the public rulemaking record for the proposed priority, requirements, and definitions. If you want to schedule an appointment for this type of aid, please contact the person listed under FOR FURTHER INFORMATION CONTACT.

We will announce the final priority, requirements, and definitions in a notice in the Federal Register. We will determine the final priority, requirements, and definitions after considering responses to this notice and other information available to the Department. This notice does not preclude us from proposing additional priorities, requirements, and definitions, subject to meeting applicable rulemaking requirements.

Note: This notice does not solicit applications. In any year in which we choose to use the proposed priority, requirements, and definitions, we invite applications through a notice in the Federal Register. When inviting applications, we designate the priority as absolute, competitive preference, or invitational. The effect of each type of priority follows:

Absolute Priority: Under an absolute priority we consider only applications that meet the priority (34 CFR 75.105(c)(3)).

Competitive Preference Priority: Under a competitive preference priority we give competitive preference to an application by either (1) awarding additional points, depending on how well or the extent to which the application meets the priority (34 CFR 75.105(c)(2)(i)); or (2) selecting an application that meets the competitive priority over an application of comparable merit that does not meet the priority (34 CFR 75.105(c)(2)(ii)).

Invitational Priority: Under an invitational priority we are particularly interested in applications that meet the invitational priority. However, we do not give an application that meets the invitational priority a competitive or absolute preference over other applications (34 CFR 75.105(c)(1)).

Discussion of Proposed Priority, Requirements, and Definitions

Through this program, the Department intends to fund model professional development programs for music, dance, drama, and visual arts educators of K-12 students in high-poverty schools. The purpose of this program is to strengthen standards-based arts education programs and to help ensure that all students meet challenging State academic content standards and challenging State student academic achievement standards in the arts.

Priority

Proposed Priority

We propose the following priority for this program:

This priority supports professional development programs for K-12 arts educators that use innovative instructional methods and current knowledge from education research and focus on—

(1) The development, enhancement, or expansion of standards-based arts education programs; or

(2) The integration of standards-based arts instruction with other core academic area content.

In order to meet this priority, an applicant must demonstrate that the project for which it seeks funding is linked to State and national standards intended to enable all students to meet challenging expectations, and to improving student and school performance.

Rationale: It is the intent of this program to provide professional development programs for arts educators that can be linked to student achievement, including performance on State or local standardized tests. While arts content and achievement standards have been voluntarily adopted in many States throughout the country, teachers often need professional development on how to implement education standards both for arts programs and for programs designed to integrate arts with other subject areas. The proposed priority would support projects that would provide professional development services that are linked to learning standards.

Requirements

Proposed Application Requirement

We propose the following application requirement for this program:

To be eligible for Professional Development for Arts Educators Program funds, applicants must propose to carry out professional development programs for art educators of K-12 low-income children and youth by implementing projects in schools in which 50 percent or more of the children enrolled are from low-income families (based on the poverty criteria set out in Title I, Section 1113(a)(5) of the Elementary and Secondary Education Act of 1965, as amended by the No Child Left Behind Act of 2001 (ESEA)).

Rationale: Studies have found that improving the quality of arts education has a particularly positive impact on students from low-income backgrounds. We believe this poverty requirement is necessary in order to focus services on the most needy children.

Proposed Eligibility Requirement

We propose the following eligibility requirement for this program:

To be eligible to receive funding under the Professional Development for Arts Educators program, an applicant must be—

A local educational agency (LEA), which may be a charter school that is considered an LEA, that is acting on behalf of an individual school or schools that meets the poverty criterion with respect to children from low-income families that is specified in the application requirement elsewhere in this notice, and that must work in partnership with one or more of the following—

(1) A State or local non-profit or governmental arts organization;

(2) A State educational agency (SEA) or regional educational service agency;

(3) An institution of higher education; or

(4) A public or private agency, institution, or organization, including a museum, an arts education association, a library, a theater, or a community-or faith-based organization.

Rationale: The most effective professional development programs are systemic and have the full support of school leadership. Therefore, it is essential that eligibility be limited to LEAs. Professional development in the area of arts education is often enhanced when it taps the expertise of professional arts organizations or other entities. Accordingly, an LEA would be required to partner with one of these organizations.

Definitions

Proposed Definitions

The terms “arts educator” and “integrate”, which are important concepts associated with this program, are not defined in the authorizing statute. We, therefore, propose, for the purpose of this program, to define these terms as follows:

Arts educator means a teacher who works in music, drama, dance, or the visual arts.

Integrate means, in the context of projects funded under this program, to strengthen (i) the use of high-quality arts instruction within other academic content areas, and (ii) the place of the arts as a core academic subject in the school curriculum.

Executive Order 12866

This notice of proposed priority, requirements, and definitions has been reviewed in accordance with Executive Order 12866. Under the terms of the order, we have assessed the potential costs and benefits of this regulatory action.

The potential costs associated with the notice of proposed priority, requirements, and definitions are those resulting from statutory requirements and those we have determined as necessary for administering this program effectively and efficiently.

In assessing the potential costs and benefits—both quantitative and qualitative—of this notice of proposed priority, requirements, and definitions, we have determined that the benefits of the proposed priority, requirements, and definitions justify the costs.

We also have determined that this regulatory action does not unduly interfere with State, local, and tribal governments in the exercise of their governmental functions.

Summary of Potential Costs and Benefits

The potential costs associated with the proposed priority, requirements, and definitions in this notice are minimal, while the benefits are significant. Grantees may incur some costs associated with completing the application process in terms of staff and partner time, copying, and mailing or delivery.

The benefit of the proposed priority, requirements, and definitions in this notice is that grantees will develop professional development programs for arts educators, especially those programs that incorporate arts education standards and are designed to improve the educational performance of at-risk children and youth.

Intergovernmental Review

This program is subject to Executive Order 12372 and the regulations in 34 CFR part 79. One of the objectives of the Executive order is to foster an intergovernmental partnership and strengthened federalism. The Executive order relies on processes developed by State and local governments for coordination and review of proposed Federal financial assistance.

This document provides early notification of our specific plans and action for this program.

Electronic Access to This Document

You may view this document, as well as all other Department of Education documents published in the Federal Register, in text or Adobe Portable Document Format (PDF) on the Internet at the following site: http://www.ed.gov/news/fedregister.

To use PDF you must have Adobe Acrobat Reader, which is available free at this site. If you have questions about using PDF, call the U.S. Government Printing Office (GPO) toll free, at 1-888-293-6498; or in the Washington DC area at (202) 512-1530.

Note: The official version of this document is the document published in the Federal Register. Free Internet access to the official edition of the Federal Register and the Code of Federal Regulations is available on GPO Access at: http://www.gpoaccess.gov/nara/index.html.

Program Authority: 20 U.S.C. 7271.

(Catalog of Federal Domestic Assistance Number 84.351C Professional Development for Arts Educators)
Dated: January 7, 2005.
Nina Shokraii Rees,
Assistant Deputy Secretary for Innovation and Improvement.

[FR Doc. E5-125 Filed 1-12-05; 8:45 am]

BILLING CODE 4000-01-P